GENERAL SERVICES ADMINISTRATION

Federal Management Regulation; Motor Vehicle Management; Notice of GSA Bulletin FMR B-9

AGENCY: Office of Governmentwide Policy, General Services Administration (GSA).

ACTION: Notice of a bulletin.

SUMMARY: This notice announces GSA Federal Management Regulation (FMR) Bulletin B-9. This bulletin provides guidance to Executive Branch agencies (other Federal entities are encouraged to follow this guidance) on the development and maintenance of documented structured vehicle allocation methodologies for agency fleets, i.e.,vehicles that are agency-owned, leased from the General Services Administration (GSA), or commercially-leased. Agency adherence to such a methodology will help to ensure that agency vehicle fleets are not over-costly, are correctly sized in terms of numbers, and are the appropriate type for accomplishing agency missions. GSA Bulletin FMR B-9 may be found at www.gsa.gov/bulletin.

DATES: The bulletin announced in this notice is effective August 26, 2005.

FOR FURTHER INFORMATION CONTACT For clarification of content, contact General Services Administration,Office of Governmentwide Policy, Office of Travel, Transportation and Asset Management, at (202) 501-1777. Please cite Bulletin FMR B-9.

SUPPLEMENTARY INFORMATION:

A. Background

In April 2002, the Office of Management and Budget (OMB) requested that all Executive Branch agencies take a closer look at their fleet management operations, particularly the size of their fleets. In coordination with OMB, information was collected from the agencies using a survey developed by the Federal Fleet Policy Council (FEDFLEET) and GSA's Vehicle Management Policy Division. The results of the survey indicated a number of deficiencies in the fleet management operations of the agencies. An interagency working group of FEDFLEET members recommended corrective actions, including the establishment, within each agency, of a documented structured vehicle allocation methodology to identify the optimal allocation of the agency vehicles in terms of number and configuration of those vehicles. The need for such a methodology was further validated in a May 2004 Government Accountability Office report on the acquisition and management of Federal motor vehicles.

The guidance provided in FMR Bulletin B-9 includes a description of the methodology and resultant optimal vehicle allocation, an example of the methodology both in narrative and in standardized format, how the methodology and resultant optimal vehicle allocation should be recorded,the sources for development of the methodology and resultant optimal vehicle allocation, what actions Federal executive agencies should take as a result of the bulletin, and a contact for further information and/or comments.

B. Procedures

Bulletins regarding motor vehicle management are located on the Internet at www.gsa.gov/bulletins as Federal Management Regulation(FMR) bulletins.

Dated: September 2, 2005.
Thomas J. Horan,
Deputy Director.

[FR Doc. 05-17952 Filed 9-9-05; 8:45 am]

BILLING CODE 6820-14-S